FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel Operating Common Carrier Ocean Transportation Intermediary Applicant:

NSCP Cargo Corporation, 23595 Cabot Blvd., Suite 116, Hayward, CA 94545.

Officers: Guillermo E. Pena, Compliance Officer, (Qualifying Individual), Arion Alabado, Director.

Non-Vessel Operating Common Carrier and Ocean Freight Forwarder Transportation Intermediary Applicants:

ILS-International Logistics Solutions, Inc., 1337 East Rock Wren Road, Phoenix, AZ 85048.

Officer: Larry Nass, President, (Qualifying Individual),

Tons Consolidators, Inc., 4309 Rousseau Lane, Palos Verdes Peninsula, CA 90274.

Officers: Ellen, Ling Ying Chen, Secretary, (Qualifying Individual), Hong Wai Tung, President.

Ocean Freight Forwarder—Ocean Transportation Intermediary Applicant:

A.O.C.H. Services Corp., 24 North Road, Stony Brook, NY 11790.

Officer: Joseph A. Costanzo, President, (Qualifying Individual).

Dated: August 16, 2002.
Bryant L. VanBrakle,
Secretary.

[FR Doc. 02-21337 Filed 8-20-02; 8:45 am]

BILLING CODE 6730-01-P